DEPARTMENT OF COMMERCE

Foreign-Trade Zones Board

[B-14-2014]

Foreign-Trade Zone 104—Savannah, Georgia; Authorization of Production Activity Firth Rixson Forgings LLC (Aerospace and Industrial Turbine Engine Parts, Forgings) Midway, Georgia

On February 4, 2014, the World Trade Center Savannah, LLC, grantee of FTZ 104, submitted a notification of proposed production activity to the Foreign-Trade Zones (FTZ) Board on behalf of Firth Rixson Forgings LLC, in Midway, Georgia.

The notification was processed in accordance with the regulations of the FTZ Board (15 CFR part 400), including notice in the Federal Register inviting public comment (79 FR 11756, March 3, 2014). The FTZ Board has determined that no further review of the activity is warranted at this time. The production activity described in the notification is authorized, subject to the FTZ Act and the FTZ Board's regulations, including Section 400.14, and further subject to a restriction requiring that Firth Rixson Forgings LLC, admit all foreign status titanium products to FTZ 104 in privileged foreign status (19 CFR 146.41).

Dated: June 4, 2014.
Andrew McGilvray,
Executive Secretary.

[FR Doc. 2014-13509 Filed 6-9-14; 8:45 am]

BILLING CODE 3510-DS-P